FEDERAL COMMUNICATIONS COMMISSION

[WT Docket No. 02-55—FCC 07-168]

Improving Public Safety Communications in the 800 MHz Band

AGENCY: Federal Communications Commission.

ACTION: Notice.

SUMMARY: By this Public Notice, the Federal Communications Commission (Commission) announces supplemental procedures and provides guidance for completion of 800 MHz rebanding by National Public Safety Planning Advisory Committee (NPSPAC) licensees. As part of the rebanding process, NPSPAC licensees are being relocated to new frequencies in the 800 MHz band, with all rebanding costs to be paid by Sprint Corporation (Sprint). The Commission's orders provide for the rebanding process to be completed by June 26, 2008.

DATES: Effective September 12, 2007.

FOR FURTHER INFORMATION CONTACT: Roberto Mussenden, Policy Division, Public Safety and Homeland Security Bureau, at (202) 418-1428 or Roberto.Mussenden@fcc.gov; John Evanoff, Policy Division, Public Safety and Homeland Security Bureau, at (202) 418-0848 or John Evanoff@fcc.gov.

SUPPLEMENTARY INFORMATION: This document summarizes the Public Notice in WT Docket No. 02-55, released on September 12, 2007. The full text of this document is available for public inspection on the Commission's Internet site at http://www.fcc.gov. It is also available for inspection and copying during regular business hours in the FCC Reference Center (Room CY-A257), 445 12th Street, SW., Washington, DC 20554. The full text of this document also may be purchased from the Commission's duplication contractor, Best Copy and Printing Inc., Portals II, 445 12th St., SW., Room CY-B402, Washington, DC 20554; telephone (202) 488-5300; fax (202) 488-5563; e-mail FCC@BCPIWEB.COM.

Background

1. In the 800 MHz Report and Order, 69 FR 67823 (November 22, 2004), the Commission ordered the rebanding of the 800 MHz band to resolve interference between commercial and public safety systems in the band. In that order, the Commission required Sprint Nextel Corporation (Sprint) to pay for relocation of all affected 800 MHz licensee systems to their new channel assignments, including the expense of retuning or replacing the licensee's equipment as required. Sprint must provide each relocating licensee with “comparable facilities” on the new channel(s), and must provide for a seamless transition to enable licensee operations to continue without interruption during the relocation process. In a Public Notice released on September 12, 2007, the Federal Communications Commission (Commission) announced supplemental procedures and provided guidance for completion of 800 MHz rebanding by National Public Safety Planning Advisory Committee (NPSPAC) licensees.

3. The following procedures and guidelines are intended to expedite: (1) Rebanding planning activities undertaken by NPSPAC licensees; (2) negotiation of Frequency Reconfiguration Agreements (FRAs) with Sprint; and (3) physical implementation of rebanding. This Public Notice also provides guidance to Sprint and the 800 MHz Transition Administrator (TA) to help expedite cost review and approval, and ultimately to ensure that rebanding is accomplished in a reasonable, prudent, and timely manner.

Completion of Planning

4. The following time limits shall apply to planning activities for NPSPAC licensees that have negotiated a Planning Funding Agreement (PFA) with Sprint or are engaged in planning without a PFA: ¹

¹ These planning timelines also apply to licensees who are reconfiguring Expansion Band frequencies in Stage 2.

○ All NPSPAC licensees must complete planning (either with or without a PFA) and submit a cost estimate to Sprint in accordance with the following timelines:

▪ NPSPAC licensees with systems of up to 5,000 subscriber units must complete planning and submit a cost estimate within 90 days of TA approval of the PFA.²

² For licensees who conduct planning without a PFA, the TA shall designate an equivalent starting date for the planning period.

▪ PSPAC licensees with more than 5,000 units must complete planning and submit a cost estimate as follows:

• 5,001-10,000 units: 100 days.

• Over 10,000 units: 110 days.³

³ Wave 4 licensees that are subject to deferred mediation due to pending international border issues will receive updated timelines once the revised band plans are available. Wave 4, Stage 2 licensees in mediation are subject to the timelines in this Public Notice.

○ NPSPAC licensees in Waves 1-3 that are already engaged in planning on the release date of this Public Notice must complete planning and submit a cost estimate to Sprint as follows: ⁴

⁴ In instances where these deadlines would result in a licensee having less than 90, 100, or 110 total days to complete planning (based on the size of its system) in accordance with this Public Notice, the 90, 100, and 110-day planning timelines established above will control. For example, a Wave 1 licensee with 1000 units that began planning on August 1, 2007 would have 90 days from that date, i.e., until October 30, 2007, to complete planning.

▪ Wave 1—by October 15, 2007.

▪ Wave 2—by November 15, 2007.

▪ Wave 3—by December 15, 2007.

○ Sprint shall cooperate with and fully support NPSPAC licensee planning efforts in accordance with these time limits. The Commission discourages licensees from requesting extensions of time for planning that assert arguments on behalf of Sprint. Requests for extension based on delay caused by Sprint will not be routinely granted.

○ To facilitate completion of planning within these time limits, the Commission advises NPSPAC licensees to provide in their contracts with equipment vendors and consultants that such vendors and consultants will make sufficient resources available to support licensee planning efforts. Licensee requests for extension of planning time based on claimed unavailability of vendor or consultant resources will not be routinely granted.

○ Subject to the above limitations, a NPSPAC licensee may request that the Public Safety and Homeland Security Bureau (PSHSB) allow additional time for planning, but any such request must explain why more time is necessary as well as demonstrate that the licensee has exercised diligence in the time already allotted. Factors that will be considered in evaluating a request include system size and complexity, degree of interoperability with other systems, and level of effort required to prepare a reasonable cost estimate.

○ During planning, NPSPAC licensees shall provide the TA with biweekly updates regarding the status of their planning activities in such form as the TA may request. The licensee's cost of preparing such updates shall be a recoverable cost from Sprint.

Frequency Reconfiguration Agreement Negotiations

5. The following time limits shall apply to FRA negotiations between NPSPAC licensees and Sprint:

○ Following completion of planning and submission of a cost estimate to Sprint by the licensee, parties have 30 days to negotiate a FRA. Licensees shall complete their cost estimate in accordance with the Cost Estimate guidance provided by the TA.⁵ Negotiations shall be subject to monitoring by the TA mediator, who shall confirm the date on which a cost estimate was submitted to Sprint, but the mediator is not required to participate in negotiations.

⁵ See http://www.800ta.org/content/documents/cost_estimate.asp.

○ If the parties are unable to negotiate an FRA within 30 days, the parties shall participate in mediation for 20 days. The TA shall refer any remaining disputed issues to PSHSB within 10 days of the close of the mediation period, during which time the parties will complete the briefing of such issues. In referring such disputes, the TA mediator shall provide a record summary to PSHSB, and shall provide a Recommended Resolution unless the Bureau notifies the mediator that a mediator recommendation is not required.

Change Notice Process

6. The Change Notice process is designed to address unanticipated changes in cost, scope, or schedule that occur during implementation or in the case of an emergency.⁶ Some NPSPAC licensees have expressed concern that uncertainty regarding the Change Notice process has prolonged initial planning and FRA negotiations. The Commission therefore offers the following guidance with respect to the Change Notice process:

⁶ See http://www.800ta.org/content/documents/change_notice.asp for TA procedures and recommended Change Notice forms.

○ The Change Notice process is subject to the Commission's Rebanding Cost Clarification Order.⁷ Accordingly, the negotiation and approval of Change Notice requests should take into account the overall goals of this proceeding, not just the issue of minimum cost.⁸

⁷ See Improving Public Safety Communications in the 800 MHz Band, WT Docket 02-55, Memorandum Opinion and Order, 22 FCC Rcd 9818 (2007) (Rebanding Cost Clarification Order).

⁸ Id. at 9821 ¶ 8.

○ Licensees may not use the Change Notice process to recover costs that were reasonably foreseeable during planning or FRA negotiations but were not raised in negotiations, or that were considered and rejected. However, licensees that comply with the planning and FRA time limits discussed above may seek to recover costs incurred that could not reasonably be anticipated within such time limits.

○ Licensees should submit Change Notice requests concurrently to Sprint and the TA.⁹ To facilitate Change Notice review and approval, both Sprint and the TA should have requests reviewed by personnel that are already familiar with the licensee's FRA and rebanding requirements wherever possible.

⁹ Requests should be submitted using the TA's Change Notice Process Fact Sheet, available at: http://www.800ta.org/content/PDF/forms/Change_Notice_Process_Fact_Sheet.pdf.

○ Sprint shall respond to all Change Notices requests within 10 working days of receipt. If negotiations are unsuccessful, either party may request mediation from the TA and parties shall participate in mediation for 15 working days, with any remaining disputes referred to PSHSB at that time. If parties agree to an amendment to their FRA, the TA shall review all such amendments within 10 working days from the date submitted by the parties for approval.

Rebanding Implementation

7. Rebanding implementation consists of: (1) Replacement and retuning of subscriber equipment; (2) retuning of base stations to the licensee's new channel assignments and commencement of system operations on the new channels (sometimes referred to as the system “cutover”); and (3) additional post-cutover system modifications (e.g., disposal of temporary or legacy equipment, removal of pre-rebanding channels from subscriber units). NPSPAC licensees should initiate specific tasks and activities associated with these implementation steps as early in the rebanding process as possible. Some of these tasks can be initiated prior to the conclusion of FRA negotiations, and licensees should be prepared to proceed rapidly with implementation once the FRA is finalized. The Commission encourages NPSPAC licensees to take the following steps:

○ Use the resources offered by the TA to prepare for and expedite system reconfiguration. Guidance on key processes and procedures is available on the TA's Web site at http://www.800TA.org/org/reconfig_phase/reconfig1.asp.

○ Provide for early replacement/retuning of equipment.¹⁰ Engage vendors and consultants in reconfiguration implementation and begin to replace or retune equipment as early as possible.

¹⁰ Under the TA's Subscriber Early Deployment (SED) program, licensees may begin retuning/replacement of equipment prior to finalization of the FRA. Alternatively, licensees should initiate retuning/replacement as early as possible after the FRA is finalized.

○ Finalize contracts with vendors and consultants to ensure that equipment will be delivered and implementation work completed in accordance with the FRA rebanding schedule and FCC requirements.

○ Create and distribute lists of key licensee personnel and contacts, as well as contacts for vendors, consultants, Sprint, and the TA. Designate an internal or vendor contact who will respond to requests from the TA for status updates regarding the implementation schedule and progress.

○ Maintain an inventory of all subscriber and infrastructure equipment affected by rebanding, and verify the receipt of all loaner and replacement equipment.

○ Notify Sprint when channels in the new NPSPAC band need to be made available to allow system testing or operation on the licensee's new channel assignments. Coordinate with Sprint regarding filing license modifications needed to add the new frequencies to the licensee's authorizations.

○ For systems that use mutual aid channels, have a plan in place to maintain mutual aid operations during reconfiguration. Coordinate efforts to ensure continuity of mutual aid interoperability arrangements with neighboring licensees.

○ Notify the TA if an issue affecting implementation is identified that vendors, consultants, or Sprint cannot quickly resolve, or that materially affects the implementation schedule.

Regional Implementation Planning

8. NPSPAC licensees and Sprint are encouraged to define implementation schedules, including the clearing of necessary frequencies for licensee reconfiguration and filing of license modifications, in the FRA wherever feasible. For licensees in areas with few, if any, other NPSPAC licensees; or licensees without significant interoperability dependencies, this should be a specific goal of the FRA negotiation. This will help reduce the amount of additional planning and planning resources required from all parties for subsequent efforts.¹¹

¹¹ Licensees in Stage 2 reconfiguring only Expansion Band channels are expected to have implementation timelines included in their FRAs and will only be affected by Regional Implementation Planning if they participate extensively in an interoperability network.

9. As part of implementation preparation in certain (but not all) areas, the TA is conducting a series of NPSPAC rebanding implementation planning sessions for NPSPAC licensees on a regional or state-wide basis. NPSPAC licensees in such areas are expected to participate in these sessions, regardless of whether they have executed an FRA with Sprint. The purpose of the sessions is to develop a comprehensive implementation schedule, including proper identification of issues, risks, dependencies and next steps. The Commission provides the following guidance to NPSPAC licensees attending planning sessions:

○ Licensees should be prepared to discuss their overall timelines and implementation plans for reconfiguration, as well as interoperability, vendor commitments, and other dependencies, key assumptions, and open issues.

○ Licensees are encouraged to proceed with all possible reconfiguration implementation activities for their own systems while the regional planning process is under way.

○ Licensees that have executed an FRA without an implementation schedule that can reconfigure their infrastructure in advance of the regional planning process and independently of other systems (such as a statewide mutual aid network) should notify both Sprint and the TA concurrently of the date by which channels in the new NPSPAC band need to be made available. Sprint shall respond to all such requests with a schedule for making new NPSPAC channels available to the licensee within 15 working days.

○ Multiple licensees that propose to reconfigure as a coordinated group may present a single timeline and plan (even if they have separate FRAs).

○ For licensees in mediation with Sprint, discussions at regional planning sessions will not be treated as part of the official mediation record.

Wave 4 Border Area Planning

10. As addressed in prior public notices, the negotiation periods for border area licensees in Wave 4 have been extended pending resolution of ongoing international discussions on US-Canada and US-Mexico border issues.¹²

¹² See Public Safety and Homeland Security Bureau Announces Extension of Negotiation Period between Sprint Nextel and Border Area NPSPAC Licensees in Wave 4, Stage 2 of 800 MHz Band Reconfiguration, WT Docket No. 02-55, DA 07-3468 (PSHSB July 31, 2007); Public Safety and Homeland Security Bureau Extends Negotiation Period between Sprint Nextel and Border Area Non-NPSPAC Licensees in Wave 4, Stage 1 of 800 MHz Band Reconfiguration, WT Docket No. 02-55, Public Notice, 22 FCC Rcd 11658 (PSHSB 2007).

○ During this extended period, Wave 4 border area licensees are not required to engage in planning or negotiation prior to receipt of frequency designations from the TA.

○ However, the Commission encourages licensees to engage in such activities to the extent that they are not frequency-dependent and would not result in unnecessary duplication of costs. For example, border area licensees may conduct system inventories and develop plans for replacement and retuning of equipment.

○ If licensees choose to engage in such activities, Sprint shall pay licensees' reasonable costs in accordance with the requirements of the Commission's orders in this proceeding.¹³

¹³ The Commission clarifies that this requires Sprint to pay all costs incurred by licensees in reasonable anticipation of rebanding. There is a remote possibility that the Commission's final rebanding plan for the border areas could result in some border licensees not needing to reband. However, given the likelihood that most if not all licensees will reband, allowing all licensees to proceed with rebanding planning prior to this contingency being resolved is likely to speed the transition, and therefore is a reasonable cost under the Commission's Rebanding Cost Clarification Order. See Rebanding Cost Clarification Order, 22 FCC Rcd at 9822 ¶ 9 (rebanding may proceed more efficiently “if rebanding tasks are initiated early in the process and carried on in stages throughout the process, even though this may be more costly than performing all of the rebanding work at once at a later date”).

Public Safety Licensee Requests for Extension of 36-Month Deadline

11. Some public safety licensees have expressed concern that they will be unable to complete their system rebanding by the June 26, 2008 deadline established by the Commission. The Commission offers the following guidance for public safety licensees who anticipate that they may need to file requests to extend the deadline:

○ In general, the Commission discourages public safety licensees from filing extension requests at this time. Requests that are filed may be held in abeyance pending further review of progress in rebanding implementation.

○ Requests for extension will be subject to a high level of scrutiny. Licensees will be expected to demonstrate that they have worked diligently and in good faith to complete rebanding expeditiously, and that the amount of additional time requested is no more than is reasonably necessary to complete the rebanding process.

○ Factors that will be considered in evaluating requests will include system size and complexity, degree of interoperability with other systems, and level of effort required to complete rebanding implementation.

○ The Commission clarifies that public safety licensees do not need to file extension requests in order to be assured of continued funding by Sprint in the event that their rebanding activities extend past the 36-month deadline. Sprint is required to pay all licensee rebanding expenses that are reasonable, prudent, and necessary regardless of when such costs are incurred.¹⁴ The Commission directs the TA to approve FRAs that provide for recovery of rebanding costs incurred after June 26, 2008, provided such costs are otherwise recoverable under the TA's standards.

¹⁴ This does not preclude the Bureau or Commission from requiring a licensee to pay its own rebanding costs based on a determination that the licensee has caused unjustified delay or has otherwise failed to meet its obligation to implement rebanding in good faith.

Ordering Clauses

12. This document does not contain new or modified information collection requirements subject to the Paperwork Reduction Act of 1995 (PRA), Public Law 104-13. In addition, therefore, it does not contain any new or modified “information collection burden for small business concerns with fewer than 25 employees,” pursuant to the Small Business Paperwork Relief Act of 2002, Public Law 107-198, see 44 U.S.C. 3506(c)(4).

Federal Communications Commission.
Marlene H. Dortch,
Secretary.

[FR Doc. E7-19210 Filed 9-27-07; 8:45 am]

BILLING CODE 6712-01-P